DEPARTMENT OF DEFENSE

Department of the Navy

Meetings of the Chief of Naval Operations (CNO) Executive Panel

AGENCY: Department of the Navy, DOD.

ACTION: Notice of closed meetings.

SUMMARY: The CNO Executive Panel will provide consensus advice to the Chief of Naval Operations on shaping the Navy's force of the 21st century and receive CNO direction regarding future studies to be conducted by the Panel.

DATES: The meetings will be held on Thursday, May 20, 2004, from 8:30 a.m. to 10 p.m., and on Friday, May 21, 2004, from 8:30 a.m. to 12 p.m.

ADDRESSES: The meetings will be held at the Naval Service Training Command, Bldg 1 Boardroom, 2601A Paul Jones Street, Great Lakes, IL 60088, with the exception of the evening of May 20, 2004, when the meeting will be held at Harrison Manor House, Lake Bluff, IL 60044.

FOR FURTHER INFORMATION CONTACT: Commander David Hughes, CNO Executive Panel, 4825 Mark Center Drive, Alexandria, VA 22311, (703) 681-4908 or Lieutenant Commander Chris Corgnati, CNO Executive Panel, (703) 681-4909.

SUPPLEMENTARY INFORMATION: Pursuant to the provisions of the Federal Advisory Committee Act (5 U.S.C. App. 2), these matters constitute information that relates solely to the internal personnel rules and practices of the Navy. Accordingly, the Secretary of the Navy has determined in writing that the public interest requires that all sessions of the meeting be closed to the public because they will be concerned with matters listed in section 552b(c)(2) of title 5, United States Code.

Dated: April 30, 2004.
S.A. Hughes,
Lieutenant Commander, Judge Advocate General's Corps, U.S. Navy, Federal Register Liaison Officer.

[FR Doc. 04-10294 Filed 5-5-04; 8:45 am]

BILLING CODE 3810-FF-P